SECURITIES AND EXCHANGE COMMISSION

[Release No. IC-25401]

Notice of Applications for Deregistration Under Section 8(f) of the Investment Company Act of 1940

January 25, 2002.

The following is a notice of applications for deregistration under section 8(f) of the Investment Company Act of 1940 for the month of January, 2002. A copy of each application may be obtained for a fee at the SEC's Public Reference Branch, 450 Fifth St., NW, Washington, DC 20549-0102 (tel. 202-942-8090). An order granting each application will be issued unless the SEC orders a hearing. Interested persons may request a hearing on any application by writing to the SEC's Secretary at the address below and serving the relevant applicant with a copy of the request, personally or by mail. Hearing requests should be received by the SEC by 5:30 p.m. on February 19, 2002, and should be accompanied by proof of service on the applicant, in the form of an affidavit or, for lawyers, a certificate of service. Hearing requests should state the nature of the writer's interest, the reason for the request, and the issues contested. Persons who wish to be notified of a hearing may request notification by writing to the Secretary, SEC, 450 Fifth Street, NW, Washington, DC 20549-0609. For Further Information Contact: Diane L. Titus, at (202) 942-0564, SEC, Division of Investment Management, Office of Investment Company Regulation, 450 Fifth Street, NW, Washington, DC 20549-0506.

PaineWebber Mutual Fund Trust [File No. 811-4312]

Summary: Applicant seeks an order declaring that it has ceased to be an investment company. On February 23, 2001, applicant's series, PaineWebber National Tax-Free Income Fund, transferred its assets to PACE Municipal Fixed Income Investments, a series of PACE Select Advisors Trust, based on net asset value. On March 9, 2001, applicant's remaining series, PaineWebber California Tax-Free Income Fund, transferred its assets to MFS California Municipal Bond Fund, a series of MFS Municipal Series Trust, based on net asset value. Expenses of $214,588 incurred in connection with the reorganization were paid by Brinson Advisors, Inc., applicant's investment adviser.

Filing Date: The application was filed on January 7, 2002.

Applicant's Address: 51 West 52nd St., New York, NY 10019-6114.

PaineWebber Municipal Series [File No. 811-5014]

Summary: Applicant seeks an order declaring that it has ceased to be an investment company. On March 9, 2001, applicant transferred its assets to MFS Municipal Bond Fund, a series of MFS Municipal Series Trust, and MFS Municipal High Income Fund, a series of MFS Series Trust III, based on net asset value. Expenses of $82,287 incurred in connection with the reorganization were paid by Brinson Advisors, Inc., applicant's investment adviser.

Filing Date: The application was filed on January 7, 2002.

Applicant's Address: 51 West 52nd Street, New York, NY 10019-6114.

MaxFund Trust [File No. 811-8499]

Summary: Applicant seeks an order declaring that it has ceased to be an investment company. On August 13, 2001, one of applicant's portfolios, Fifth Third/Maxus Aggressive Value Fund, transferred its assets to Fifth Third Microcap Value Fund, a portfolio of Fifth Third Funds, based on net asset value. On October 1, 2001, applicant's remaining portfolio, Fifth Third/Maxus Ohio Heartland Fund made a liquidating distribution to its shareholders based on net asset value. Applicant incurred no expenses in connection with either the reorganization or liquidation.

Filing Date: The application was filed on December 4, 2001.

Applicant's Address: 1404 East Ninth St., Fifth Floor, Cleveland, OH 44114.

Fifth Third/Maxus Income Fund [File No. 811-4144]

Fifth Third/Maxus Equity Fund [File No. 811-5865]

Fifth Third/Maxus Laureate Fund [File No. 811-7516]

Summary: Each applicant seeks an order declaring that it has ceased to be an investment company. By October 23, 2001, each applicant transferred its assets to a portfolio of Fifth Third Funds, based on net asset value. Fifth Third Bank, an affiliate of applicants' investment adviser, paid all expenses incurred in connection with the reorganizations.

Filing Date: The applications were filed on December 4, 2001. Fifth Third/Maxus Income Fund filed an amended application on December 10, 2001.

Applicants' Address: 1404 East Ninth St., Fifth Floor, Cleveland, OH 44114.

Arrow Funds [File No. 811-7041]

Summary: Applicant seeks an order declaring that it has ceased to be an investment company. On November 14, 1997, applicant transferred its assets to The Arch Funds, Inc., based on net asset value. Expenses of approximately $20,000 incurred in connection with the reorganization were paid by applicant and the acquiring fund.

Filing Date: The application was filed on January 2, 2002.

Applicant's Address: 1001 Liberty Ave., Pittsburgh, PA 15222.

COUNTRY Growth Fund, Inc. [File No. 811-1338]

COUNTRY Tax Exempt Bond Fund, Inc. [File No. 811-2840]

COUNTRY Taxable Fixed Income Series Fund, Inc. [File No. 811-3186]

Summary: Each applicant seeks an order declaring that it has ceased to be an investment company. On October 31, 2001, each applicant transferred its assets to COUNTRY Mutual Funds Trust based on net asset value. Expenses of $26,261, $9,481 and $7,810, respectively, incurred in connection with the reorganizations were paid by COUNTRY Trust Bank, investment adviser to each applicant.

Filing Date: The applications were filed on December 21, 2001.

Applicants' Address: 808 IAA Dr., Bloomington, IL 61702-2901.

PaineWebber America Fund [File No. 811-3502]

PaineWebber Olympus Fund [File No. 811-4180]

PaineWebber Managed Assets Trust [File No. 811-6376]

PaineWebber Securities Trust [File No. 811-7473]

PaineWebber Investment Trust II [File No. 811-7104]

Summary: Each applicant seeks an order declaring that it has ceased to be an investment company. By February 23, 2001, each applicant had transferred its assets to a corresponding series of PaineWebber PACE Select Advisors Trust based on net asset value. Expenses of $243,347, $171,183, $130,421, $253,868 and $90,272, respectively, incurred in connection with the reorganizations were paid by Brinson Advisors, Inc., investment adviser to each applicant.

Filing Dates: The applications were filed on December 19, 2001, except PaineWebber Investment Trust II, which was filed on December 21, 2001.

Applicants' Address: 51 West 52nd St., New York, NY 10019-6114.

Nationwide Asset Allocation Trust [File No. 811-7805]

Summary: Applicant seeks an order declaring that it has ceased to be an investment company. On July 20, 2001, applicant made a liquidating distribution to its shareholders based on net asset value. Expenses of $2,901 incurred in connection with the liquidation were paid by Villanova SA Capital Trust, applicant's investment adviser.

Filing Date: The application was filed on December 11, 2001.

Applicant's Address: Three Nationwide Plaza, Columbus, OH 43215.

Bonfiglio & Reed Options Fund [File No. 811-9905]

Summary: Applicant seeks an order declaring that it has ceased to be an investment company. On January 29, 2001, applicant made a final liquidating distribution to its shareholders based on net asset value. Expenses of $50 incurred in connection with the liquidation were paid by Bonfiglio & Reed LLC, applicant's investment adviser.

Filing Dates: The application was filed on September 26, 2001, and amended on January 7, 2002.

Applicant's Address: P.O.Box 2256, Tempe, AZ 82580-2256.

Credit Suisse Asset Management Strategic Global Income Fund, Inc. [File No. 811-5458]

Summary: Applicant, a closed-end investment company, seeks an order declaring that it has ceased to be an investment company. On May 14, 2001, applicant transferred its assets to Credit Suisse Asset Management Income Fund, Inc. based on net asset value. Expenses of $694,820 incurred in connection with the reorganization were shared equally between applicant and the acquiring fund.

Filing Dates: The application was filed on June 22, 2001, and amended on December 28, 2001.

Applicant's Address: 466 Lexington Ave., 16th Floor, New York, NY 10017.

For the Commission, by the Division of Investment Management, pursuant to delegated authority.
J. Lynn Taylor,
Assistant Secretary.

[FR Doc. 02-2372 Filed 1-30-02; 8:45 am]

BILLING CODE 8010-01-P